FEDERAL COMMUNICATIONS COMMISSION

Notice of Public Information Collection(s) Being Reviewed by the Federal Communications Commission, Comments Requested

December 15, 2008.

SUMMARY: As part of its continuing effort to reduce paperwork burden and as required by the Paperwork Reduction Act (PRA) of 1995 (44 U.S.C. 3501-3520), the Federal Communications Commission invites the general public and other Federal agencies to comment on the following information collection(s). Comments are requested concerning (a) whether the proposed collection of information is necessary for the proper performance of the functions of the Commission, including whether the information shall have practical utility; (b) the accuracy of the Commission's burden estimate; (c) ways to enhance the quality, utility, and clarity of the information collected; (d) ways to minimize the burden of the collection of information on the respondents, including the use of automated collection techniques or other forms of information technology; and (e) ways to further reduce the information collection burden for small business concerns with fewer than 25 employees. An agency may not conduct or sponsor a collection of information unless it displays a currently valid OMB control number. No person shall be subject to any penalty for failing to comply with a collection of information subject to the Paperwork Reduction Act that does not display a valid OMB control number.

DATES: Written PRA comments should be submitted on or before February 23, 2009. If you anticipate that you will be submitting comments, but find it difficult to do so within the period of time allowed by this notice, you should advise the contact listed below as soon as possible.

ADDRESSES: Submit your comments by e-mail to PRA@fcc.gov. Include in the email the OMB control number of the collection or, if there is no OMB control number, the Title shown in the SUPPLEMENTARY INFORMATION section below. If you are unable to submit your comments by email contact the person listed below to make alternate arrangements.

FOR FURTHER INFORMATION CONTACT: For additional information about the information collection(s) or to obtain a copy of the collection send an e-mail to PRA@fcc.gov and include the collection's OMB control number as shown in the SUPPLEMENTARY INFORMATION section below (or the title of the collection if there is no OMB control number), or call or contact Judith Boley Herman at (202) 418-0214.

SUPPLEMENTARY INFORMATION: OMB Control Number: None.

Title: Section 10.350, Testing Requirements for the Commercial Mobile Alert System (CMAS).

Form Number: N/A

Type of Review: New collection.

Respondents: Businesses or other for-profit.

Number of Respondents and Responses: 146 respondents; 1,752 responses.

Estimated Time per Response: 0.000694 hours (2.5 seconds).

Frequency of Response: Monthly and on occasion reporting requirements and recordkeeping requirement.

Obligation To Respond: Required to obtain or retain a benefit. Statutory authority for this information collection is contained in Warning, Alert, and Response Network Act, Title VI of the Security and Accountability for Every Port Act of 2006, Public Law No. 109-347, 120 Stat. 1884, (2006).

Total Annual Burden: 2 hours.

Total Annual Cost: None.

Privacy Act Impact Assessment: No impact.

Nature and Extent of Confidentiality: There is no need for confidentiality.

Needs and Uses: As required by the Warning Alert and Response Network (WARN) Act, the Federal Communications Commission had adopted rules to establish a Commercial Mobile Alert System (CMAS), under which Commercial Mobile Service (CMS) providers may elect to transmit emergency alerts to the public. In order to ensure that the CMAS operates efficiently and effectively, the Commission will require participating CMS providers to participate in required monthly tests (RMT) of the CMAS that are initiated by the Federal Alert Gateway Administrator. Participating CMS providers must distribute these RMT messages to their CMAS coverage area within 24 hours of receipt by the CMS Provider Gateway unless pre-empted by actual alert traffic or inability to do so due to an unforeseen condition. A participating CMS provider shall indicate such an unforeseen condition by a response code to the Federal Alert Gateway. A participating CMS provider must retain an automated log of the RMT messages received by the CMS Provider Gateway from the Federal Alert Gateway. In addition to the RMTs, participating CMS providers must participate in periodic testing of the interface between the Federal Alert Gateway and its CMS Provider Gateway that is not intended to test the CMS provider's infrastructure or mobile devices, but rather is required to ensure the availability/viability of both gateway functions. Each CMS Provider Gateway shall send an acknowledgement to the Federal Alert Gateway upon receipt of such an interface test message. The Commission will use this information to ensure the continued functioning of the CMAS, thus complying with the WARN Act and the Commission's obligation to promote the safety of life and property through the use of wire and radio communication.

Federal Communications Commission.
Marlene H. Dortch,
Secretary.

[FR Doc. E8-30421 Filed 12-22-08; 8:45 am]

BILLING CODE 6712-01-P